FEDERAL RESERVE SYSTEM

Consumer Advisory Council; Solicitation of Nominations for Membership

AGENCY: Board of Governors of the Federal Reserve System.

ACTION: Notice.

SUMMARY: The Board is inviting the public to nominate qualified individuals for appointment to its Consumer Advisory Council, whose membership represents interests of consumers, communities, and the financial services industry. New members will be selected for three-year terms that will begin in January 2002. The Board expects to announce the selection of new members by year-end 2001.

DATE: Nominations should be received by August 13, 2001.

ADDRESSES: Nominations should be submitted in writing and mailed (not sent by facsimile) to Sandra F. Braunstein, Assistant Director, Division of Consumer and Community Affairs, Board of Governors of the Federal Reserve System, Washington, DC 20551.

FOR FURTHER INFORMATION CONTACT: Ann Bistay, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 USC 1691(b)). Under the Rules of Organization and Procedure of the Consumer Advisory Council (12 CFR 267.3), members serve three-year terms that are staggered to provide the Council with continuity.

New members will be selected for terms beginning January 1, 2002, to replace members whose terms expire in December 2001; the Board expects to announce its appointment of new members by year-end. Nomination letters should include a résumé and information about past and present positions held by the nominee; a description of special knowledge, interests or experience related to community reinvestment, consumer protection regulations, consumer credit, or other consumer financial services; and the full name, title, organization name, organization description, current address, telephone and fax numbers for both the nominee and the nominator. Individuals may nominate themselves.

The Board is interested in candidates who have familiarity with consumer financial services, community reinvestment, and consumer protection regulations, and who are willing to express their viewpoints. Candidates do not have to be experts on all levels of consumer financial services or community reinvestment, but they should possess some basic knowledge of the area. They must be able and willing to make the necessary time commitment to participate in conference calls, and prepare for and attend meetings three times a year (usually for two days, including committee meetings), held at the Board's offices in Washington, D.C. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2001, are:

Lauren Anderson, Executive Director, Neighborhood Housing Services, New Orleans, Louisiana.

Malcolm Bush, President, Woodstock Institute, Chicago, Illinois.

Mary Ellen Domeier, President, State Bank & Trust Company of New Ulm, New Ulm, Minnesota.

John Gamboa, Executive Director, The Greenlining Institute, San Francisco, California.

Willie Jones, Senior Vice President, The Community Builders, Inc., Boston, Massachusetts.

Anne Li, Executive Director, New Jersey Community Loan Fund, Trenton, New Jersey.

Marta Ramos, Vice President and CRA Officer, Banco Popular de Puerto Rico, San Juan, Puerto Rico.

Gary Washington, Senior Vice President, ABN AMRO, Chicago, Illinois.

Robert Wynn, Financial Education Officer, Department of Financial Institutions, Madison, Wisconsin.

Council members whose terms continue through 2002 and 2003 are:

Anthony Abbate, President and Chief Executive Officer, Interchange Bank, Saddle Brook, New Jersey.

Dorothy Broadman, Senior Vice President, Cal Fed Bank, San Francisco, California.

Teresa A. Bryce, General Counsel, Nexstar Financial Corporation, St. Louis, Missouri.

Manuel Casanova, Executive Vice President, International Bank of Commerce, Brownsville, Texas.

Constance Chamberlin, President/CEO, Housing Opportunities Made Equal, Richmond, Virginia.

Robert Cheadle, Interim Executive Director, Oklahoma Indian Legal Services, Oklahoma City, Oklahoma.

Lester Wm. Firstenberger, Deputy General Counsel, American General Finance, Evansville, Indiana.

Earl Jarolimek, Vice President/Corporate Compliance Officer, Community First Bankshares, Fargo, North Dakota.

Dean Keyes, Community and Economic Development Consultant, Dean Keyes Consulting, Tucson, Arizona.

Patrick Liddy, Director of Compliance, Fifth Third Bancorp, Cincinnati, Ohio.

Oscar Marquis, Attorney, Hunton and Williams, Park Ridge, Illinois.

Jeremy Nowak, Chief Executive Officer, The Reinvestment Fund, Philadelphia, Pennsylvania.

Ronald Reiter, Supervising Deputy Attorney General, California Department of Justice, San Francisco, California.

Elizabeth Renuart, Staff Attorney, National Consumer Law Center, Boston, Massachusetts.

Russell Schrader, Senior Vice President and Assistant General Counsel, Visa U.S.A., San Francisco, California.

Frank Torres, Legislative Counsel, Consumers Union, Washington, District of Columbia.

Board of Governors of the Federal Reserve System, May 29, 2001.
Jennifer J. Johnson,
Secretary of the Board.

[FR Doc. 01-13814 Filed 5-31-01; 8:45 am]

BILLING CODE 6210-01-P